DEPARTMENT OF THE INTERIOR

National Park Service

Notice of Intent To Repatriate Cultural Items in the Possession of the Haffenreffer Museum of Anthropology, Brown University, Bristol, RI

AGENCY: National Park Service, Interior.

ACTION: Notice.

Notice is hereby given under the Native American Graves Protection and Repatriation Act, 43 CFR 10.10 (a)(3), of the intent to repatriate cultural items in the possession of the Haffenreffer Museum of Anthropology, Brown University, Bristol, RI that meet the definition of “unassociated funerary object” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 180 cultural items consist of beads, lithic arrowheads, bottles, spoons, other metal objects and fragments, mat and blanket fragments, a pipe, and pipe fragments.

Around 1918, Rudolf Haffenreffer began collecting Burr's Hill human remains and objects by purchase from local collectors and by exchange with the Museum of the American Indian (Heye Foundation).

Burr's Hill is believed to be located on the southern border of Sowams, a Wampanoag village. Sowams is identified in historic documents of the 17th and 18th centuries as a Wampanoag village, and was ceded to the English in 1653 by Massasoit and his eldest son Wamsutta (Alexander). Based the presence of European trade goods and types of cultural items, these cultural items have been dated to between A.D. 1600-1710. Based on accession records and condition of the cultural items, these cultural items have been determined to be grave goods.

Based on the above-mentioned information, officials of the Haffenreffer Museum of Anthropology have determined that, pursuant to 43 CFR 10.2 (d)(2)(ii), these 180 cultural items are reasonably believed to have been placed with or near individual human remains at the time of death or later as part of the death rite or ceremony and are believed, by a preponderance of the evidence, to have been removed from a specific burial site of a Native American individual. Officials of the Haffenreffer Museum of Anthropology also have determined that, pursuant to 43 CFR 10.2 (e), there is a relationship of shared group identity that can be reasonably traced between these items and the Wampanoag Repatriation Confederation, representing the Wampanoag Tribe of Gay Head (Aquinnah), the Mashpee Wampanoag (a non-Federally recognized Indian group), and the Assonet Band of the Wampanoag Nation (a non-Federally recognized Indian group). This notice has been sent to officials of the Wampanoag Repatriation Confederation, representing the Wampanoag Tribe of Gay Head, the Mashpee Wampanoag (a non-Federally recognized Indian group), and the Assonet Band of the Wampanoag Nation (a non-Federally recognized Indian group), the Narragansett Indian Tribe of Rhode Island, and the Council of Seven/Royal House of Pokanoket/Pokanoket Tribe/Wampanoag Nation (a non-Federally recognized Indian group). Representatives of any other Indian tribe that believes itself to be culturally affiliated with these unassociated funerary objects should contact Thierry Gentis, NAGPRA Coordinator, Haffenreffer Museum of Anthropology, Mount Hope Grant, Bristol, RI 02805, telephone (401) 253-8388, facsimile (401) 253-1198, before November 1, 2000. Repatriation of these unassociated funerary objects to the Wampanoag Repatriation Confederation, representing the Wampanoag Tribe of Gay Head, the Mashpee Wampanoag (a non-Federally recognized Indian group), and the Assonet Band of the Wampanoag Nation (a non-Federally recognized Indian group) may begin after that date if no additional claimants come forward.

Dated: September 21, 2000.
John Robbins,
Assistant Director, Cultural Resources Stewardship and Partnerships.

[FR Doc. 00-25128 Filed 9-29-00; 8:45 am]

BILLING CODE 4310-70-F